DEPARTMENT OF TRANSPORTATION

Federal Aviation Administration

Aviation Rulemaking Advisory Committee—New Task

AGENCY: Federal Aviation Administration (FAA), DOT.

ACTION: Notice of a new task assignment for the Aviation Rulemaking Advisory Committee (ARAC).

SUMMARY: The FAA assigned the Aviation Rulemaking Advisory Committee (ARAC) a new task to provide recommendations on how the agency can utilize external training providers for its new-hire air traffic controller training program. The ongoing modernization of the air traffic control system, NextGen, will continually introduce advanced tools and procedures to enhance the safety and efficiency of the National Airspace System. Controllers will continue to need to know basic air traffic control skills but will also need to understand how to operate in the future operational environment. The FAA seeks to transform the air traffic controller training structure by shifting the Agency's focus from basic air traffic control qualification training to training the certified controller work force on advanced NextGen tools and procedures. This would mirror the changes that were required in the pilot community. The Agency is exploring alternative options to utilize external training provider capabilities that would expose prospective air traffic controllers to the profession. It would also provide a level of training commensurate to the current Air Traffic Basic Qualification Training, before or during the FAA controller hiring process. This notice informs the public of the new ARAC activity and solicits membership for the new Air Traffic Controller Basic Qualification Training Working Group.

FOR FURTHER INFORMATION CONTACT: Tony Price, Federal Aviation Administration, Technical Training Policy and Requirements Specialist, FAA Air Traffic Organization, AJI-232, 800 Independence Avenue SW., Washington, DC, 20591, email Tony.Price@faa.gov, telephone (202) 267-1443.

SUPPLEMENTARY INFORMATION:

ARAC Acceptance of Task

As a result of the June 18, 2015 ARAC meeting, the FAA assigned and ARAC accepted this task establishing the Air Traffic Controller Basic Qualification Training Working Group. The Air Traffic Controller Basic Qualification Training Working Group will serve as staff to the ARAC and provide advice and recommendations on the assigned task. The ARAC will review and accept the recommendation report and will submit it to the FAA.

Background

The FAA established the ARAC to provide information, advice, and recommendations on aviation related issues that could result in rulemaking to the FAA Administrator, through the Associate Administrator of Aviation Safety.

The ongoing modernization of the air traffic control system, NextGen, will continually introduce automation tools to enhance the safety and efficiency of the National Airspace System. Fully certified controllers are required to maintain proficiency while also completing additional training to understand how to provide service as the operational environment evolves. To achieve this required integration, the FAA seeks to transform the air traffic controller basic qualification training structure. The Agency is looking for opportunities to utilize external training provider capabilities to expose prospective air traffic controllers to the profession and to provide a basic level of training commensurate with the current level for Air Traffic Control Basic Qualification Training, before or during the FAA controller hiring process. The FAA seeks feedback from external stakeholders on how the agency can accomplish its goals.

The Task

The Air Traffic Controller Basic Qualification Training Working Group will provide to the ARAC an analysis on options for external training provider solutions that restructure the FAA air traffic controller candidate pipeline. Additional considerations include whether a certificated external training program modeled after Part 141 or Part 142 of Title 14 of the Code of Federal Regulations is a way to accomplish agency goals. The recommendations may propose additional alternatives that result in a candidate pipeline with knowledge and skills above the current basic qualification requirements. The Working Group should provide an initial report summarizing the analysis. If the FAA concurs with the recommendation, the tasking may be extended to include a cost and benefit analysis and an evaluation of any necessary rulemaking requirements for implementation.

1. For background information on the topic, the Working Group should review:

a. Air traffic technical training and credentialing programs (for example, FAA Order 3000.22, FAA Order 3120.4, FAA Order 7210.3, and FAA Order 8000.90).

b. Guidance on airman testing, airmen certification, designated examiners, and the FAA Flight Standards Service covered in FAA Order 8900.1, to evaluate the concept of air traffic certified training centers.

c. Title 14 of the Code of Federal Regulations (for example, Parts 61, 65, 141, and 142) for regulatory guidance on various aviation licenses, to include air traffic controllers, flight dispatchers, and pilots.

d. Associated training guidance materials to include course descriptions, lesson outlines, and training handbooks.

e. FAA hiring regulations (for example, as covered in the FAA Human Resources Policy Manual, Office of Personnel Management job standard for Series 2152, and Equal Employment Opportunity Commission guidance) as needed to integrate a proposed solution into the FAA hiring process.

2. The Working Group is tasked to identify possible external training provider solutions. At a minimum, students who complete the program must meet the current standard for Air Traffic Control Basic Qualification Training (solutions may contain options to train students to a higher level of competency).

3. The Working Group may consider rulemaking and/or advisory materials as the solution.

4. Provide initial qualitative and quantitative costs and benefits for each recommendation.

5. Develop an interim report containing recommendations on the findings and results of the tasks explained above.

a. The recommendation report should document both majority and dissenting positions on the findings and the rationale for each position.

b. Any disagreements should be documented, including the rationale for each position and the reasons for the disagreement.

6. The Working Group may be reinstated to assist the ARAC by responding to the FAA's questions or concerns after the interim recommendation report has been submitted.

Schedule

The output of the tasking will be to complete a FAA training process review in order to identify possible external training provider solutions and make a recommendation to the FAA. The interim report is requested to be presented to the ARAC at its June 2016 meeting and submitted to the FAA for review and acceptance no later than July 15, 2016. Should the FAA accept the recommendation of the ARAC, the Working Group may be tasked to evaluate costs and benefits and rulemaking requirements for implementation.

Working Group Activity

The Air Traffic Controller Basic Qualification Training Working Group must comply with the procedures adopted by the ARAC and are as follows:

1. Conduct a review and analysis of the assigned tasks and any other related materials or documents.

2. Draft and submit a work plan for completion of the task, including the rationale supporting such a plan, for consideration by the ARAC.

3. Provide a status report at each ARAC meeting.

4. Draft and submit the interim recommendation report based on the review and analysis of the assigned tasks.

5. Present the initial recommendation report at the ARAC meeting.

6. If the Working Group is reinstated to answer questions the FAA had regarding the recommendation report, present the findings in response to the FAA's questions or concerns about the recommendation report at the ARAC meeting.

Participation in the Working Group

The Air Traffic Controller Basic Qualification Training Working Group will be comprised of technical experts having an interest in the assigned task. A Working Group member need not be a member representative of the ARAC. The FAA would like a wide range of members to ensure all aspects of the tasks are considered in development of the recommendations. The provisions of the August 13, 2014, Office of Management and Budget guidance, “Revised Guidance on Appointment of Lobbyists to Federal Advisory Committees, Boards, and Commissions” (79 FR 47482), continues the ban on registered lobbyists participating on Agency Boards and Commissions if participating in their “individual capacity.” The revised guidance now allows registered lobbyists to participate on Agency Boards and Commissions in a “representative capacity” for the “express purpose of providing a committee with the views of a nongovernmental entity, a recognizable group of persons or nongovernmental entities (an industry, sector, labor unions, or environmental groups, etc.) or state or local government.” (For further information see Lobbying Disclosure Act of 1995 (LDA) as amended, 2 U.S.C 1603, 1604, and 1605.)

If you wish to become a member of the Air Traffic Controller Basic Qualification Training Working Group, write the person listed under the caption FOR FURTHER INFORMATION CONTACT expressing that desire. Describe your interest in the task and state the expertise you would bring to the Working Group. The FAA must receive all requests by October 19, 2015. The ARAC and the FAA will review the requests and advise you whether or not your request is approved.

If you are chosen for membership on the Working Group, you must actively participate in the Working Group, attend all meetings, and provide written comments when requested. You must devote the resources necessary to support the Working Group in meeting any assigned deadlines. You must keep your management and those you may represent advised of working group activities and decisions to ensure the proposed technical solutions do not conflict with the position of those you represent. Once the Working Group has begun deliberations, members will not be added or substituted without the approval of the ARAC Chair, the FAA, including the Designated Federal Officer, and the Working Group Chair.

The Secretary of Transportation determined the formation and use of the ARAC is necessary and in the public interest in connection with the performance of duties imposed on the FAA by law.

The ARAC meetings are open to the public. However, meetings of the Air Traffic Controller Basic Qualification Training Working Group are not open to the public, except to the extent individuals with an interest and expertise are selected to participate. The FAA will make no public announcement of Working Group meetings.

Issued in Washington, DC, on September 14, 2015.
Lirio Liu,
Designated Federal Officer, Aviation Rulemaking Advisory Committee.

[FR Doc. 2015-23433 Filed 9-17-15; 8:45 am]

BILLING CODE 4910-13-P